DEPARTMENT OF LABOR

Employment and Training Administration

[TA-W-53,033]

Modern Packaging Products, Deer Park, NY; Notice of Termination of Investigation

Pursuant to Section 221 of the Trade Act of 1974, as amended, an investigation was initiated on September 26, 2003 in response to a petition filed on by a company official on behalf of workers of Modern Packaging, Inc., Deer Park, New York.

The petitioner has requested that the petition be withdrawn. Consequently, the investigation has been terminated.

Signed at Washington, DC this 17th day of October 2003.
Elliott S. Kushner,
Certifying Officer, Division of Trade Adjustment Assistance.

[FR Doc. 03-29270 Filed 11-21-03; 8:45 am]

BILLING CODE 4510-30-P